DEPARTMENT OF ENERGY

Federal Energy Regulatory Commission

[Docket No. EC04-59-000, et al.]

Brooklyn Navy Yard Cogeneration, et al.; Electric Rate and Corporate Filings

February 2, 2004.

The following filings have been made with the Commission. The filings are listed in ascending order within each docket classification.

1. Brooklyn Navy Yard Cogeneration Partners, L.P., Mission Energy New York, Inc., BNY Power Partners LLC

[Docket Nos. EC04-59-000 and ER97-886-007]

Take notice that on January 30, 2004, Brooklyn Navy Yard Cogeneration Partners, L.P. (Brooklyn), Mission Energy New York, Inc. (MENY), and BNY Power Partners LLC (BNYPP) filed an application under Section 203 of the Federal Power Act requesting Commission authorization for the transfer of 50% of the upstream partnership interests in Brooklyn from MENY to BNYPP, an indirect subsidiary of Delta Power Company, LLC, Morgan Stanley Dean Witter Capital Partners IV, L.P., MSDW IV 892 Investors, L.P., and Morgan Stanley Dean Witter Capital Investors IV, L.P. Brooklyn has requested privileged treatment of the contents of Exhibit C-3 and Exhibit I to the section 203 application. In addition, Brooklyn filed a notice of change in status in the above-referenced rate docket.

Comment Date: February 20, 2004.

2. Old Dominion Electric Cooperative

[Docket No. ER97-4314-008]

Take notice that on January 22, 2004, Old Dominion Electric Cooperative, tendered for filing triennial updated market analysis in compliance with the order issued October 17, 1997, 81 FERC 61,044 (1997).

Comment Date: February 12, 2004.

3. California Independent System Operator Corporation

[Docket Nos. ER98-997-003, ER98-1309-002, ER02-2297-002, and ER02-2298-002]

Take notice that on January 20, 2004, the California Independent System Operator Corporation (ISO) submitted a filing to comply with the order issued in the captioned proceedings on August 12, 2003, 104 FERC 61,196.

The ISO states that the compliance filing has been served on the Public Utilities Commission of the State of California and on all parties to these proceedings.

Comment Date: February 10, 2004.

4. Entergy-Koch Trading, LP

[Docket No. ER01-2781-004]

Take notice that on January 26, 2004, EKT Energy Trading, LP (EKT) tendered for filing an updated market power study pursuant to the Commission's Order approving market rate authority for EKT.

Comment Date: February 17, 2004.

5. BOC Energy Services, Inc.

[Docket No. ER03-44-003]

Take notice that on January 20, 2004, BOC Energy Services, Inc. tendered a compliance filing to add a section to its Market Based Rate Schedule incorporating the Market Behavior Rules adopted by the Commission in its Order Amending Market-Based Rate Tariffs and Authorizations issued November 17, 2003 in Docket Nos. EL01-118-000 and EL01-118-001.

BOC Energy Services, Inc. states that the filing also reflects ministerial changes to the Market Based Rate Schedule made to comply with the Commission's tariff formatting requirements.

Comment Date: February 10, 2004.

6. Geyers Power Company, LLC

[Docket No. ER03-184-002]

Take notice that on January 20, 2004, Geysers Power Company, LLC filed a refund report in compliance with the Commission's September 12, 2003 Order. Geysers Power Company, LLC, 104 FERC 61,278 (2003).

Comment Date: February 10, 2004.

7. New York Independent System Operator, Inc.

[Docket No. ER03-690-004]

Take notice that on January 23, 2004, the New York Independent System Operator, Inc. (NYISO) tendered for filing a compliance filing in connection with the Commission(s August 22, 2003, and December 23, 2003, Orders in Docket Nos. ER03-690-000,001 and 002..

The NYISO states that it has served a copy of this filing to all parties listed on the official service list in this proceeding, all parties that have executed Service Agreements under the NYISO(s Open-Access Transmission Tariff or Services Tariff, the New York State Public Service Commission and to the electric utility regulatory agencies in New Jersey and Pennsylvania.

Comment Date: February 13, 2004.

8. American PowerNet Management, LP

[Docket No. ER03-769-001]

Take notice that on January 20, 2004, American PowerNet Management, LP (APN) tendered a compliance filing to add a section to its Market Based Rate Schedule incorporating the Market Behavior Rules adopted by the Commission in its Order Amending Market-Based Rate Tariffs and Authorizations issued November 17, 2003 in Docket Nos. EL01-118-000 and EL01-118-001.

APN states that the filing also reflects ministerial changes to the Market Based Rate Schedule made to comply with the Commission's tariff formatting requirements.

Comment Date: February 10, 2004.

9. Midwest Independent Transmission System Operator, Inc.

[Docket No. ER03-1213-001]

Take notice that on January 23, 2004, the Midwest Independent Transmission System Operator, Inc. (Midwest ISO) pursuant to Section 205 of the Federal Power Act and section 35.13 of the Commission's regulations, 18 CFR 35.13, submitted for filing a revised Interconnection and Operating Agreement among Traer Municipal Utilities the Midwest ISO, and Interstate Power and Light Company, a wholly-owned subsidiary of Alliant Energy.

Midwest ISO states that a copy of this filing was served on all parties.

Comment Date: February 13, 2004.

10. Midwest Independent Transmission System Operator, Inc.

[Docket No. ER03-1214-001]

Take notice that on January 26, 2004, Midwest Independent Transmission System Operator, Inc. (Midwest ISO) pursuant to section 205 of the Federal Power Act and Section 35.13 of the Commission's regulations, 18 CFR. 35.13 (2002), submitted for filing a revised Interconnection and Operating Agreement among Maquoketa Municipal Utilities and Interstate Power and Light Company, a wholly-owned subsidiary of Alliant Energy.

Midwest ISO states that a copy of this filing was served on all parties.

Comment Date: February 17, 2004.

11. Williams Power Company, Inc.

[Docket No. ER03-1331-002]

Take notice that on January 20, 2004, Williams Power Company, Inc. (WPC) submitted for filing its Sixth Revised FERC Electric Rate Schedule 1 to incorporate the market behavior rules adopted by the Commission in an order issued November 17, 2003 in Docket Nos. EL01-118-000 and 001.

Comment Date: February 10, 2004.

12. Public Service Company of New Hampshire

[Docket No. ER04-130-001]

Take notice that on January 22, 2004, Public Service Company of New Hampshire (PSNH), tendered for filing a substitute sheet containing a modification to the Agreement between PSNH and the Town of Wolfeboro Municipal Electric Department for Interconnection and Delivery Services, as required by the Commission's Order in Docket No. ER04-130-000 issued on December 23, 2004.

PSNH states that a copy of this filing was mailed to the Town of Wolfeboro Municipal Electric Department, the Office of Attorney General for the State of New Hampshire, the Executive Director of the New Hampshire Public Utilities Commission, and the Office of Consumer Advocate for the State of New Hampshire.

Comment Date: February 12, 2004.

13. North Jersey Energy Associates, Limited Partnership

[Docket No. ER04-187-002]

Take notice that on January 27, 2004, North Jersey Energy Associates, A Limited Partnership (NJEA) filed a revised market-based rate tariff to incorporate the Market Behavior Rules established by the Commission in its Order issued on November 17, 2003, in Docket Nos. EL01-118-000 and 001.

Comment Date: February 17, 2004.

14. APN Starfirst, LP

[Docket No. ER04-226-002]

Take notice that on January 20, 2004, APN Starfirst, LP (Starfirst), tendered a compliance filing to add a section to its Market Based Rate Schedule incorporating the Market Behavior Rules adopted by the Commission in its Order Amending Market-Based Rate Tariffs and Authorizations issued November 11, 2003 in Docket Nos. EL01-118-000 and 001.

Starfirst states that the filing also reflects ministerial changes to the Market Based Rate Schedule made to comply with the Commission's tariff formatting requirements.

Comment Date: February 10, 2004.

15. Virginia Electric and Power Company

[Docket No. ER04-271-001]

Take notice that on January 23, 2004, Virginia Electric and Power Company (Dominion Virginia Power) tendered for filing a Service Agreement for Network Integration Transmission Service (Retail) by Dominion Virginia Power to Washington Gas Energy Services, Inc., designated as First Revised Service Agreement No. 377, under the Company's Open Access Transmission Tariff, FERC Electric Tariff, Second Revised Volume No. 5.

Dominion Virginia Power renews its request for an effective date of November 9, 2003.

Comment Date: February 13, 2004.

16. Pacific Gas and Electric Company

[Docket No. ER04-337-002]

Take notice that on January 26, 2004, Pacific Gas and Electric Company (PG&E) filed an errata to replace page 6 of the filing letter and two exhibits to its December 24, 2003 filing of Transmission Owner Tariff (TO Tariff) rate for the Transmission Revenue Balancing Account Adjustment (TRBAA), the Reliability Services (TRS) rate, and the Transmission Access Charge Balancing Account Adjustment (TACBAA) also set forth in its TO Tariff.

PG&E states that copies of this filing have been served upon the California Independent System Operator (ISO), Scheduling Coordinators registered with the ISO, Southern California Edison Company, San Diego Gas & Electric Company, the California Public Utilities Commission and other parties to the official service lists in this docket and recent TO Tariff rate cases, FERC Docket Nos. ER01-1639-000, ER03-409-000 and ER04-109-000.

Comment Date: February 17, 2004.

17. Niagara Mohawk Power Corporation

[Docket No. ER04-423-001]

Take notice that on January 20, 2004, Niagara Mohawk Power Corporation (Niagara Mohawk) filed an amendment to the interconnection service agreement (the agreement) between Niagara Mohawk and Flat Rock Windpower, LLC filed on January 16, 2004.

Comment Date: February 10, 2004.

18. Valley Electric Association, Inc.

[Docket No. ER04-424-001]

Take notice that on January 23, 2004, Valley Electric Association, Inc. tendered for filing an amendment to the Interconnection Agreement filed on January 16, 2004 in Docket No. ER04-424-000.

Comment Date: February 13, 2004.

19. Duke Energy Oakland, LLC

[Docket No. ER04-461-000]

Take notice that on January 22, 2004, Duke Energy Oakland, LLC (DEO) tendered for filing a First Revised Sheet No. 189 to DEO's FERC Electric Rate Schedule No. 2. DEO states that this sheet is filed to amend DEO's contact information included in Schedule J. DEO requests an effective date of January 1, 2004, for this revision.

DEO states that a copy of this filing was served upon the California Independent System Operator Corporation.

Comment Date: February 12, 2004.

20. Duke Energy South Bay, LLC

[Docket No. ER04-462-000]

Take notice that on January 22, 2004, Duke Energy South Bay, LLC (DESB) tendered for filing a First Revised Sheet No. 197 to DESB's FERC Electric Rate Schedule No. 2. DESB states that this sheet is filed to amend DESB's contact information included in Schedule J. DESB requests an effective date of January 1, 2004 for this revision.

DESB states that a copy of this filing was served upon the California Independent System Operator Corporation.

Comment Date: February 12, 2004.

21. Wisconsin Electric Power Company

[Docket No. ER04-470-000]

Take notice that on January 23, 2004, Wisconsin Electric Power Company (Wisconsin Electric) tendered for filing a revision to Exhibit B of the Second Revised Power Sales Agreement, Second Revised Rate Schedule FERC No. 90 (Exhibit B) between Wisconsin Electric and Wisconsin Public Power, Inc.

Comment Date: February 13, 2004.

22. Southern Indiana Gas & Electric Company

[Docket No. ER04-471-000]

Take notice that on January 23, 2004, Southern Indiana Gas & Electric Company (SIGECO) tendered for filing: (1) a Tariff for Sales of Ancillary Services (AST) under which SIGECO will provide ancillary services on a basis that is consistent with the requirements of Order No. 888; (2) an unexecuted service agreement (Service Agreement) between SIGECO and the Midwest Independent Transmission System Operator, Inc. under the AST; and (3) Cancellation Documents consisting of notices of cancellation, a revised tariff cover sheet and revised service agreement cover sheets to terminate SIGECO's Open Access Transmission Tariff designated as FERC Electric Tariff, Second Revised Volume No. 3 and all of the service agreements thereunder.

SIGECO respectfully requests waiver of the Commission's regulations to permit the AST, the Service Agreement and the Cancellation Documents to become effective as of March 24, 2004.

SIGECO states that copies of the filing were served upon all customers under the SIGECO's open access transmission tariff and the Indiana Utility Regulatory Commission.

Comment Date: February 13, 2004.

23. Fauquier Landfill Gas, LLC

[Docket No. ER04-472-000]

Take notice that on January 23, 2004, Fauquier Landfill Gas, LLC (Fauquier) submitted for filing, pursuant to Section 205 of the Federal Power Act, and Part 35 of the Commission's Regulations, an application for authorization to make sales of capacity, energy, and certain Ancillary Services at market-based rates; to reassign transmission capacity; to resell firm transmission rights; to waive certain of the Commission's regulations promulgated under the FPA; and to grant certain blanket approvals under other such regulations.

Comment Date: February 13, 2004.

24. Penobscot Bay Energy Company, L.L.C.

[Docket No. ER04-473-000]

Take notice that on January 23, 2004, Penobscot Bay Energy Company, L.L.C. (Penobscot Bay) pursuant to section 35.15, 18 CFR 35.15, of the Commission's Regulations, filed a Notice of Cancellation of its market-based rate authority under FERC Electric Rate Schedule No. 1.

Comment Date: February 13, 2004.

25. PJM Interconnection, L.L.C.

[Docket No. ER04-474-000]

Take notice that on January 23, 2004, PJM Interconnection, L.L.C. (PJM), submitted for filing an unexecuted interconnection service agreement (ISA) among PJM, Industrial Power Generating Corporation, and Monongahela Power Company, The Potomac Edison Company, and West Penn Power Company, all doing business as Allegheny Power. PJM requests a January 24, 2004 effective date for the ISA.

PJM states that copies of this filing were served upon the parties to the agreements and the state regulatory commissions within the PJM region.

Comment Date: February 13, 2004.

26. Black Hills Energy Resources, Inc. (formerly known as Wickford Energy Marketing, LC

[Docket No. ER04-476-000]

Take notice that on January 26, 2004, Black Hills Energy Resources, Inc., tendered for filing a Notice of Cancellation, pursuant to 18 CFR 35.15 (2002), giving notice of cancellation of its market-based electric tariff filed with the Commission.

Comment Date: February 17, 2004.

27. Westar Energy, Inc.

[Docket No. ER04-478-000]

Take notice that on January 26, 2004, Westar Energy, Inc. (Westar), filed (1) a Master Power Purchase Agreement between Westar and the Kansas Electric Power Cooperative, Inc. and (2) a Telemetry Services Agreement and an Energy Coordination Agreement, each between Westar and the Missouri Joint Municipal Electric Utility Commission.

Comment Date: February 17, 2004.

28. Pacific Gas and Electric Company

[Docket Nos. ER04-484-000 and 001]

Take notice that on January 26, 2004, and as amended on January 28, 2004, Pacific Gas and Electric Company (PG&E) filed a Service Agreement for Wholesale Distribution Service and an Interconnection Agreement between PG&E and Hercules Municipal Utility (HMU). PG&E requests an effective date of April 1, 2003.

PG&E states that copies of this filing have been served upon the California Independent System Operator, and the California Public Utilities Commission and HMU.

Comment Date: February 18, 2004.

29. R.E. Ginna Nuclear Power Plant, LLC

[Docket No. ER04-485-000]

Take notice that on January 26, 2004, R.E. Ginna Nuclear Power Plant, LLC submitted for filing, pursuant to section 205 of the Federal Power Act (FPA), and Part 35 of the Commission's Regulations, an application for authorization to make sales of capacity, energy, and certain Ancillary Services at market-based rates; to reassign transmission capacity; to resell firm transmission rights; to waive certain of the Commission's regulations promulgated under the FPA; and to grant certain blanket approvals under other such regulations.

Comment Date: February 17, 2004.

30. MidAmerican Energy Company

[Docket No. ER04-497-000]

Take notice that on January 20, 2004, MidAmerican Energy Company (MidAmerican), pursuant to the Notice of the Commission Clarifying Compliance Procedures issued January 8, 2004 in Docket Nos. RM02-1-000 and 001, tendered for filing proposed variations in the pro forma Large Generator Interconnection Procedures and Large Generator Interconnection Agreement based on existing regional reliability standards applicable to the Mid-Continent Area Power Pool of which MidAmerican is a member.

Comment Date: February 10, 2004.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. E4-217 Filed 2-6-04; 3:00 pm]

BILLING CODE 6717-01-P